DEPARTMENT OF THE INTERIOR

National Park Service

[2280-665]

National Register of Historic Places; Notification of Pending Nominations and Related Actions

Nominations for the following properties being considered for listing or related actions in the National Register were received by the National Park Service before October 16, 2010. Pursuant to section 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by December 20, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
National Register of Historic Places/National Historic Landmarks Program.

ARIZONA

Coconino County

Chapel of the Holy Cross, 780 Chapel Rd, Sedona, 10000947

ARKANSAS

Poinsett County

Maxie Theatre, 136 AR 463 S, Trumann, 10000933

COLORADO

Grand County

Greenwood Lodge, 161 CR 451, Grand Lake, 10000948

FLORIDA

Miami-Dade County

Fulford by the Sea Entrance, Intersection of NE 172 St and NE 23 Ave, North Miami Beach, 10000937

MISSOURI

Washington County

Palmer Historic Mining District, Address Restricted, Potosi, 10000964

NEW YORK

Clinton County

Warrenrath Camp, 55 Island Dr, Dannemora, 10000943

Erie County

Calumet, The, 46-58 W Chippewa St/233 Franklin St, Buffalo, 10000958

Nassau County

Glen Cove Post Office, 51 Glen St, Glen Cove, 10000957

Onondaga County

Shepard Settlement Cemetery, Stump & Foster Rds, Shepard Settlement, 10000938

Orange County

Beakes, John G., House, 134 W Main St, Middletown, 10000939

Grace Episcopal Church, 58 N St, Middletown, 10000945

Mapes, Mortimer L., House & Seward Homestead, 35 N Main St, Florida, 10000942

St. Lawrence County

Fort la Presentation Site, Address Restricted, Ogdensburg, 10000944

Steuben County

Gold Seal Winery, West Lake Rd, Hammondsport, 10000946

Sullivan County

Greenfield Preparative Meeting House, NY 55 at Denman Mt Rd, Grahamsville, 10000956

Washington County

McNish, Alexander, House, 194 CR 30, New York, 10000959

Simonds, L.C., Adirondack Cabin, 130 Cat Den Rd, Clemons, 10000941

SOUTH DAKOTA

Brookings County

Hall, John L., House, 121 Samara Ave, Volga, 10000955

Lockhart House, 1001 6th Ave, Brookings, 10000954

Davison County

Henline, Ellis and Roberta Farmstead, 39987 252nd St, Mount Vernon, 10000950

Faulk County

Edgerton, Dr. William, House, 308 Tenth Ave S, Faulkton, 10000951

Tripp County

Wewela Hall, Lots 3 and 4, Block 34, Government Townsite of Wewela, Wewela, 10000952

Walworth County

Molstad Lake Park, (Federal Relief Construction in South Dakota MPS) 1 ¾ mi N of HWY 12 on 293rd Ave, Glenham, 10000953

TENNESSEE

Anderson County

Daugherty Furniture Building, 307 N Main St, Clinton, 10000936

Davidson County

Municipal Public Works Garage Industrial District, 33 Peabody St, Nashville, 10000949

Henderson County

Doe Creek School, Doe Creek Rd, approx ½ mi N of Dyer Rd, Sardis, 10000935

Knox County

Lebanon in the Forks Cemetery, (Knoxville and Knox County MPS) Asbury Rd N of Norfolk Southern Railroad, Knoxville, 10000934

TEXAS

Harris County

Near Northside Historic District, Roughly bounded by Little White Oak Bayou on the N; Hogan on the S; I-45 On the W and the block between N Main and Keene Houston, 10000960

Hays County

Lane, James C., House, (Rural Properties of Hays County, Texas MPS) 306 Wimberley Square, Wimberley, 10000961

Hunt County

Washington Hotel, 2612 Washington St, Greenville, 10000962

Uvalde County

Nicolas Street School, 332 Nicolas St, Uvalde, 10000963

Related Action: Request for REMOVAL has been made for the following resources:

COLORADO

Larimer County

Big Thompson River Bridge I, US 34 at milepost 65.53 Larimer, 02001144

Big Thompson River Bridge II, US 34 at milepost 66.22 Larimer, 02001141

KENTUCKY

Jefferson County

Bloedner, August, Monument, Cave Hill Cemetery, jct. of Payne St. & Lexington Rd., Louisville, 97000688

[FR Doc. 2010-30312 Filed 12-2-10; 8:45 am]

BILLING CODE 4312-51-P